FEDERAL COMMUNICATIONS COMMISSION

[GN Docket No. 18-122; DA 20-720; FRS 16934]

Wireless Telecommunications Bureau Denies PSSI Global Services, LLC Request for Stay of 3.7 GHz Report and Order

AGENCY: Federal Communications Commission.

ACTION: Notice.

SUMMARY: In this document, the Federal Communications Commission (Commission) denies the Petition for Stay of Report and Order and Order of Proposed Modification Pending Judicial Review of PSSI Global Services, LLC.

DATES: The Order Denying Stay Petition (DA 20-720) was released on July 8, 2020.

ADDRESSES: Federal Communications Commission, 445 12th Street SW, Washington, DC 20554.

FOR FURTHER INFORMATION CONTACT: Anna Gentry of the Wireless Telecommunications Bureau, Mobility Division, at (202) 418-7769 or Anna.Gentry@fcc.gov.

SUPPLEMENTARY INFORMATION: This is a summary of the Order Denying Stay Petition (DA 20-720) released on July, 2020. The complete text of the Order is available for viewing via the Commission's ECFS website by entering the docket number, GN Docket No. 18-122. The complete text of the Order is also available for public inspection and copying from 8:00 a.m. to 4:30 p.m. Eastern Time (ET) Monday through Thursday or from 8:00 a.m. to 11:30 a.m. ET on Fridays in the FCC Reference Information Center, 445 12th Street SW, Room CY-B402, Washington, DC 20554, telephone 202-488-5300, fax 202-488-5563, or you may contact BCPI at its website: http://www.BCPIWEB.com. When ordering documents from BCPI, please provide the appropriate FCC document number, for example, DA 20-720.

Synopsis

On June 17, 2020, PSSI Global Services, LLC (PSSI) filed a Request for Stay Pending Judicial Review of the Commission's Report and Order and Order of Proposed Modification in the above-captioned proceeding. PSSI asked the Commission to stay the C-band auction and transition process while its challenges to the 3.7 GHz Report and Order are pending before the United States Court of Appeals for the District of Columbia. In its Stay Request, PSSI argues that the 3.7 GHz Report and Order will result in two types of harm: (1) Scarcity of satellite capacity for PSSI's occasional use due to the repurposing of the lower portion of the C-band; and (2) potential interference and equipment damage from wireless broadband service in the repurposed spectrum. They argue that the Commission violated a statutory prohibition against auctioning spectrum “used for the provision of international or global satellite communications services,” exceeded its license modification authority under section 316 of the Communications Act, and did not provide notice that it would modify PSSI's right to transmit radio communications in the 5.925-6.425 GHz band.

The Commission denies the Stay Request. First, PSSI has not shown that it will suffer irreparable harm. The harm that PSSI alleges is not imminent, is conjectural, and consists of economic injuries that are not severe enough to be cognizable as irreparable harm. Second, PSSI has not shown a likelihood of success on the merits. The Commission addressed PSSI's principal arguments at length in the 3.7 GHz Report and Order. The Stay Request does not persuade the Commission that the PSSI's arguments are likely to succeed in court any more than they did before the agency. Third, PSSI has not shown that the equities favor a stay. PSSI has not met its burden of showing that the public interest militates in favor of a stay and that others would not be harmed by a stay. Moreover, PSSI has not shown that the public interest would favor grant of the stay. The Commission's actions to repurpose the C-band are an indispensable element of its overall strategy of promoting the deployment of fifth generation (5G) wireless services, with millions of jobs, and billions of dollars in economic growth and other public benefits, at stake. Grant of a stay pending judicial review would significantly delay the auction and transition process and harm multiple stakeholders, including prospective bidders and the diverse incumbents involved in the transition process. The cost of such delay and disruption could be enormous. In addition to the public interest harms, grant of a stay would undercut the specific goal of U.S. leadership in 5G and the general goals of the auction program. Accordingly, we conclude that a stay of the Order and Order and Proposed Modification Pending Judicial Review is not warranted.

Federal Communications Commission.
Amy Brett,
Associate Division Chief, Competition and Infrastructure Policy Division, Wireless Telecommunications Bureau.

[FR Doc. 2020-15676 Filed 7-20-20; 8:45 am]

BILLING CODE 6712-01-P